DEPARTMENT OF HOUSING AND URBAN DEVELOPMENT

Office of Federal Housing Enterprise Oversight

Information Quality Guidelines

AGENCY: Office of Federal Housing Enterprise Oversight, HUD.

ACTION: Availability of information quality guidelines.

SUMMARY: The Office of Federal Housing Enterprise Oversight (OFHEO) is publishing a notice of availability of the OFHEO's “Guidelines for Ensuring Quality of Disseminated Information and Procedures for Correction by the Public” (Guidelines). The purpose of this notice is to publish the location of the Guidelines on the OFHEO web site at http://www.ofheo.gov.

DATES: On October 1, 2002, OFHEO's “Guidelines for Ensuring Quality of Disseminated Information and Procedures for Correction by the Public” were posted on the OFHEO Web site.

FOR FURTHER INFORMATION CONTACT: Andrew Varrieur, Chief Information Officer, Office of Federal Housing Enterprise Oversight, 1700 G Street, NW., Fourth Floor, Washington, DC 20552, telephone (202) 414-8883 (not a toll free number). Alternatively, questions or comments may also be sent by electronic mail to infoquality@ofheo.gov. The telephone number for the Telecommunications Device for the Deaf is: (800) 877-8339.

SUPPLEMENTARY INFORMATION:

Background

The Guidelines are based largely on the “Guidelines for Ensuring and Maximizing the Quality, Objectivity, Utility and Integrity of Information Disseminated by Federal Agencies” (Government-wide guidance) published by the Office of Management and Budget (OMB) in the Federal Register.¹ That Government-wide guidance was issued pursuant to Section 515 of the Treasury and General Government Appropriations Act for FY 2001, Pub. L. 106-554, which directed OMB to provide guidance to Federal agencies for ensuring and maximizing the quality, objectivity, utility and integrity of information, including statistical information, disseminated by Federal agencies. In accordance with these provisions, each Federal agency was obligated to:

¹ 66 FR 49718 (Sept. 28, 2001), updated 67 FR 369 (Jan. 3, 2002), and corrected at 67 FR 8452 (Feb. 22, 2002).

1. Issue their own information quality guidelines ensuring and maximizing the quality, objectivity, utility and integrity of information, including statistical information, disseminated by the agency;

2. Establish administrative mechanisms allowing affected persons to seek and obtain correction of information maintained and disseminated by the agency that does not comply with the agency's guidelines; and

3. Report annually to the Director of OMB, beginning January 1, 2004, the number and nature of complaints received by the agency regarding agency compliance with its guidelines concerning the quality, objectivity, utility and integrity of information and how such complaints were resolved.

Consistent with the Government-wide guidance, the Guidelines ensure and maximize the quality, objectivity, utility, and integrity of information that is disseminated by the agency to the public. The Guidelines also provide an administrative process allowing affected individuals to seek and obtain correction of information maintained and disseminated by OFHEO. The Guidelines reflect OFHEO's internal procedures for reviewing and substantiating information to ensure and maximize the quality, including the objectivity, utility and integrity of information, before it is disseminated. The administrative mechanism allows affected persons to seek and obtain, where appropriate, obtain correction of information disseminated by OFHEO that does not comply with the Guidelines.

Comments

In accordance with OMB guidance, OFHEO published a notice in the Federal Register on April 2, 2002, entitled “Solicitation of Public Comments on Proposed Information Quality Guidelines” ² requesting public comments on OFHEO's proposed Guidelines. Three comments were received from private persons in response to this notice and the proposed Guidelines. Those comments were received from the Federal National Mortgage Association (Fannie Mae); the Federal Home Loan Mortgage Corporation (Freddie Mac) (collectively, the Enterprises); and the Center for Regulatory Effectiveness.

² 67 FR 15580 (April 2, 2002).

Both Enterprises commented on the proposed Guidelines' statement that “OFHEO disseminates very little information that would be subject to section 515 legislation” and that OFHEO cites only the House Price Index as an example of such information. Both Enterprises disagreed that very little information falls within the scope of the Government-wide guidance and suggested that other examples of information should be included in the Guidelines. OFHEO deleted the single citation to the House Price Index as an example. Instead, the scope of the Guidelines' applicability will become more clearly defined in light of experience and the accumulation of precedents over time.

OFHEO's proposed Guidelines also provided that they do not “apply to opinions if it is clear that what is being offered is someone's opinion, rather than fact or the agency's views. For example, the guidelines do not apply to staff working papers that are preliminary in nature and do not represent the views of the agency.” ³ OFHEO deleted the citation to working papers. Instead, the scope of the Guidelines' applicability will become more clearly defined in light of experience and the accumulation of precedents over time.

³ 3 Id.

Freddie Mac commented that OFHEO should not exempt all press releases from the scope of the Guidelines. Freddie Mac also asserted that a press release that “only discloses an agency's position on political or policy issues would appropriately fall outside of the scope of the information quality guidelines.” ⁴ Freddie Mac also commented that OFHEO should not exempt all correspondence with individuals from the scope of the Guidelines. OMB's Government-wide guidance explicitly exempts press releases and correspondence with individuals from the definition of “dissemination,” thus removing both from the scope of the Guidelines.

⁴ Letter from Allan Ratner, Freddie Mac to Andrew Varrieur, Office of Federal Housing Enterprise Oversight, at 3.

Both Enterprises commented that the proposed Guidelines do not contain procedures for review of influential information subject to higher standards of data quality. Freddie Mac noted that the proposed Guidelines do not include a definition of “influential information.” Both Enterprises also asserted that much of the information that OFHEO disseminates is within the scope of influential information and thus subject to higher standards of data quality. Although OFHEO need not identify the information within the purview of “influential information” for purposes of the Guidelines, the Government-wide guidance suggested agencies adopt a definition of “influential.” OFHEO clearly adopts a definition of “influential” in the Guidelines in section VI.9. However, in accordance with OMB guidance, the definition of “influential” has been narrowed. The amended definition of “influential,” when used in the phrase “influential scientific, financial, or statistical information,” is amended to provide that “the agency can reasonably determine that dissemination of the information will have or does have a clear and substantial impact on important public policies or important private sector decisions.” Consistent with OMB's guidance, the intent of the new phrase “clear and substantial” is to reduce the need for speculation on the part of agencies of the breadth of the definition of “influential.” ⁵

⁵ 67 FR 8455 (2002).

Fannie Mae asserted in its comment letter that the Guidelines may be judicially reviewable. The statute upon which the Government-wide guidance is based is wholly silent on the matter. Speculation as to future judicial treatment of such guidelines is, however, beyond the scope of this rulemaking and will not be addressed here.

Finally, Fannie Mae commented that the proposed Guidelines are confusing as to the responsibilities of each division of OFHEO with respect to data quality. Specifically, Fannie Mae suggests that, inasmuch as compliance with law is generally the function of the General Counsel, OFHEO's General Counsel should be vested with primary responsibility for compliance with the Government-wide guidance. The Guidelines have been clarified as to the responsibility of each office within OFHEO to ensure and maximize the quality, including the objectivity, utility and integrity, of the data originating from it. The General Counsel has overarching responsibility to advise and counsel the Director and agency personnel as to compliance with the applicable law. The Guidelines so reflect and preserve the respective responsibilities of the various agency officials.

The Center for Regulatory Effectiveness (CRE) outlined a number of broad cross-cutting policy issues of general concern to all agencies related to “Data Quality Guidelines” and provided recommendations on how such issues should be addressed. The CRE identified and evaluated a number of differing agency approaches to these issues, which it suggested might be emulated or avoided. OFHEO considered these comments in conjunction with OMB guidance in fashioning the final information quality guidelines.

Dated: October 8, 2002.
Jimmy F. Barton,
Deputy Director, Office of Federal Housing Enterprise Oversight.

[FR Doc. 02-26186 Filed 10-11-02; 8:45 am]

BILLING CODE 4220-01U-P